FEDERAL COMMUNICATIONS COMMISSION

Sunshine Act Meeting; Open Commission Meeting; Thursday, December 12, 2013

Date: December 6, 2013.

The Federal Communications Commission will hold an Open Meeting on the subjects listed below on Thursday, December 12, 2013. The meeting is scheduled to commence at 2:30 p.m. in Room TW-C305, at 445 12th Street SW., Washington, DC.

Item No. | Bureau | Subject
1 | PUBLIC SAFETY AND HOMELAND SECURITY | TITLE: Improving 911 Reliability (PS Docket No. 13-75); Reliability and Continuity of Communications Networks, Including Broadband Technologies (PS Docket No. 11-60). SUMMARY: The Commission will consider a Report and Order that takes critical steps to improve the reliability and resiliency of 911 networks nationwide.
2 | WIRELESS TELE-COMMUNICATIONS | TITLE: Expanding Access to Mobile Wireless Services Onboard Aircraft. SUMMARY: The Commission will consider a Notice of Proposed Rulemaking to revise outdated rules and provide airlines with the ability to permit passengers to use mobile wireless services via onboard airborne access systems.
3 | TECHNOLOGY TRANSITIONS POLICY TASK FORCE | PRESENTATION: The Commission will hear a status update on the Task Force's work towards making near-term recommendations related to the Commission's expectations and role in the IP transition.
4 | WIRELESS TELE-COMMUNICATIONS | PRESENTATION: The commission will hear an update on FCC and industry efforts to promote mobile wireless device unlocking.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (tty).

Additional information concerning this meeting may be obtained from Meribeth McCarrick, Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by email at FCC@BCPIWEB.com.

Federal Communications Commission.
Marlene H. Dortch,
Secretary, Office of the Secretary, Office of Managing Director.

[FR Doc. 2013-29871 Filed 12-12-13; 11:15 am]

BILLING CODE 6712-01-P